FEDERAL EMERGENCY MANAGEMENT AGENCY

Draft Guidance for the Use of Portable (Hand-Held) Radiological Instruments

AGENCY: Federal Emergency Management Agency (FEMA).

ACTION: Notice of draft guidance.

SUMMARY: We (FEMA) ¹ have developed draft guidance for the use of portable (hand-held) radiological instruments for the detection of radioactive contamination on persons in association with peacetime nuclear accidents. Three draft documents pertaining to the draft guidance are available for distribution, review and comment.

¹ The terms “we” and “us” in this notice mean FEMA.

DATES: We invite comments on the draft guidance, which we should receive on or before February 11, 2002.

ADDRESSES: You may obtain copies of the draft guidance documents from William F. McNutt, Federal Emergency Management Agency, 500 C Street, SW., Washington, DC 20472, (202) 646-2857, or (e-mail) william.mcnutt@fema.gov.

Please send any comments on the draft guidance to the Rules Docket Clerk, Office of the General Counsel, Federal Emergency Management Agency, 500 C Street, SW., Washington, DC 20472, or (e-mail) rules@fema.gov.

FOR FURTHER INFORMATION CONTACT: Vernon L. Wingert, Federal Emergency Management Agency, 500 C Street, SW., Washington, DC 20472, (202) 646-2872.

SUPPLEMENTARY INFORMATION: The three draft guidance documents are: (a) Contamination Monitoring Guidance for Portable Instruments Used for Radiological Emergency Response (10 pages); (b) Background Information on Contamination Monitoring Guidance for Portable Instruments Used for Radiological Emergency Response (55 pages); and (c) Statements of Consideration for Contamination Monitoring Guidance for Portable Instruments Used for Radiological Emergency Response (7 pages).

We developed this guidance in response to a request from the Conference of Radiation Control Program Directors (CRCPD). The CRCPD asked us to develop guidance for portable instruments that afford protection to the public equivalent to the portal monitor standard that we established and published in the Federal Register, 60 FR 15290-15291, March 23, 1995.

We worked through the Federal Radiological Preparedness Coordinating Committee (FRPCC) and its Offsite Emergency Instrumentation Subcommittee to develop and coordinate the portal monitor standard and the guidance for portable instruments. We chair the FRPCC and with the Nuclear Regulatory Commission (NRC) co-chair the Offsite Emergency Instrumentation Subcommittee, which includes members from several Federal agencies. Members of the CRCPD's E-6 Committee (composed of State radiological health officials) participate in meetings of this Subcommittee as ex-officio members. We also made the draft guidance available to FEMA Regional staff and CRCPD constituents in all 50 States for review and comment. We have addressed and resolved their comments.

While we developed only one standard for portal monitors, we developed guidance for four (4) types of portable instruments because of the instrument-specific factors that influence the manner in which radiation is detected and measured. We developed the guidance for portable instruments through extensive empirical tests of different portable radiological instruments currently in use today by State and government personnel. Despite instrument-specific differences between portal monitors and portable instruments, use of the draft guidance will afford protection to individuals equivalent to that afforded by the portal monitor standard.

Based on extensive consultation with Federal and State officials, the primary issue involving this guidance is the extended period of time required to monitor an individual adequately with some types of portable radiological instruments. The planning criterion set forth in this document for monitoring individuals using a portable CDV-700 radiological instrument is 300 counts per minute (CPM) above background levels. Empirical studies undertaken since 1991 have substantiated per-person monitoring time frames for different types of radiological instruments ranging from 2.6 minutes to as high as 19 minutes (for a CDV-700 with standard GM side window probe) for total body scans to detect spot contamination.

The range of times required to monitor individuals, coupled with the need of State and local governments to provide sufficient resources to monitor at least 20% of the plume exposure pathway emergency planning zone (EPZ) population, may require State and local governments with certain types of radiological instruments to re-examine their radiological emergency planning and preparedness for accidents involving commercial nuclear power plants. This issue is extensively documented and addressed in the three documents previously cited, and we provide suggestions on how State and local governments may address this issue and related resource requirements.

We welcome comments on the monitoring issue, related resource requirements, and any other issues raised by the draft guidance.

Dated: December 7, 2001.
Joe M. Allbaugh,
Director.

[FR Doc. 01-30824 Filed 12-12-01; 8:45 am]

BILLING CODE 6718-02-P